DEPARTMENT OF THE INTERIOR

Bureau of Land Management

[MT-929-00-1910-HE-4677-UT940]

Montana: Filing of Amended Protraction Diagram Plats

AGENCY: Bureau of Land Management, Montana State Office, Interior.

ACTION: Notice.

SUMMARY: The plats of the amended protraction diagrams accepted August 18 and 21, 2000, of the following described lands are scheduled to be officially filed in the Montana State Office, Billings Montana, thirty (30) days from the date of this publication.

Tps. 21, 22, 23, and 24 N., Rs. 31, 32, 33, and 34 W.

The plat, representing the Amended Protraction Diagram 31 Index of unsurveyed Townships 21, 22, 23, and 24 North, Ranges 31, 32, 33, and 34 West, Principal Meridian, Montana, was accepted August 21, 2000.

T. 21 N., R. 31 W.

The plat, representing Amended Protraction Diagram 31 of unsurveyed Township 21 North, Range 31 West, Principal Meridian, Montana, was accepted August 21, 2000.

T. 22 N., R. 31 W.

The plat, representing Amended Protraction Diagram 31 of unsurveyed Township 22 North, Range 31 West, Principal Meridian, Montana, was accepted August 21, 2000.

T. 23 N., R. 31 W.

The plat, representing Amended Protraction Diagram 31 of unsurveyed Township 23 North, Range 31 West, Principal Meridian, Montana, was accepted August 21, 2000.

T. 21 N., R. 32 W.

The plat, representing Amended Protraction Diagram 31 of unsurveyed Township 21 North, Range 32 West, Principal Meridian, Montana, was accepted August 21, 2000.

T. 22 N., R. 32 W.

The plat, representing Amended Protraction Diagram 31 of unsurveyed Township 22 North, Range 32 West, Principal Meridian, Montana, was accepted August 21, 2000.

T. 23 N., R. 32 W.

The plat, representing Amended Protraction Diagram 31 of unsurveyed Township 23 North, Range 32 West, Principal Meridian, Montana, was accepted August 21, 2000.

T. 24 N., R. 32 W.

The plat, representing Amended Protraction Diagram 31 of unsurveyed Township 24 North, Range 32 West, Principal Meridian, Montana, was accepted August 21, 2000.

T. 23 N., R. 32 W.

The plat, representing Amended Protraction Diagram 31 of unsurveyed Township 23 North, Range 32 West, Principal Meridian, Montana, was accepted August 21, 2000.

T. 24 N., R. 33 W.

The plat, representing Amended Protraction Diagram 31 of unsurveyed Township 24 North, Range 33 West, Principal Meridian, Montana, was accepted August 21, 2000.

T. 24 N., R. 34 W.

The plat, representing Amended Protraction Diagram 31 of unsurveyed Township 24 North, Range 34 West, Principal Meridian, Montana, was accepted August 21, 2000.

Tps. 22, 23, 24, and 25 N., Rs. 28, 29, and 30 W.

The plat, representing the Amended Protraction Diagram 32 Index of unsurveyed Townships 22, 23, 24, and 25 North, Ranges 28, 29, and 30 West, Principal Meridian, Montana, was accepted August 18, 2000.

T. 22 N., R. 28 W.

The plat, representing Amended Protraction Diagram 32 of unsurveyed Township 22 North, Range 28 West, Principal Meridian, Montana, was accepted August 18, 2000.

T. 23 N., R. 28 W.

The plat, representing Amended Protraction Diagram 32 of unsurveyed Township 23 North, Range 28 West, Principal Meridian, Montana, was accepted August 18, 2000.

T. 24 N., R. 28 W.

The plat, representing Amended Protraction Diagram 32 of unsurveyed Township 24 North, Range 28 West, Principal Meridian, Montana, was accepted August 18, 2000.

T. 25 N., R. 28 W.

The plat, representing Amended Protraction Diagram 32 of unsurveyed Township 25 North, Range 28 West, Principal Meridian, Montana, was accepted August 18, 2000.

T. 23 N., R. 29 W.

The plat, representing Amended Protraction Diagram 32 of unsurveyed Township 23 North, Range 29 West, Principal Meridian, Montana, was accepted August 18, 2000.

T. 24 N., R. 29 W.

The plat, representing Amended Protraction Diagram 32 of unsurveyed Township 24 North, Range 29 West, Principal Meridian, Montana, was accepted August 18, 2000.

T. 24 N., R. 30 W.

The plat, representing Amended Protraction Diagram 32 of unsurveyed Township 24 North, Range 30 West, Principal Meridian, Montana, was accepted August 18, 2000.

The amended protraction diagrams were prepared at the request of the U.S. Forest Service to accommodate Revision of Primary Base Quadrangle Maps for the Geometronics Service Center.

A copy of the preceding described plats of the amended protraction diagrams accepted August 18 and 21, 2000, will be immediately placed in the open files and will be available to the public as a matter of information.

If a protest against these amended protraction diagrams, accepted August 18 and 21, 2000, as shown on these plats, is received prior to the date of the official filings, the filings will be stayed pending consideration of the protests.

These particular plats of the amended protraction diagrams will not be officially filed until the day after all protests have been accepted or dismissed and become final or appeals from the dismissal affirmed.

FOR FURTHER INFORMATION CONTACT: Bureau of Land Management, 5001 Southgate Drive, P.O. Box 36800, Billings, Montana 59107-6800.

Dated: August 29, 2000.
Steven G. Schey,
Chief Cadastral Surveyor, Division of Resources.

[FR Doc. 00-23364 Filed 9-11-00; 8:45 am]

BILLING CODE 4310-DN-P